DEPARTMENT OF AGRICULTURE

Submission for OMB Review; Comment Request

August 10, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: The Pennsylvania Rural Eligibility Pilot Evaluation.

OMB Control Number: 0584-NEW.

Summary of Collection: The Pennsylvania Rural Eligibility Pilot is a pilot of the Summer Food Service Program (SFSP). Congress created the SFSP in 1968 as the Special Food Service Program for Children. In 1975, separate Child Care Food Program and a Summer Food Service Program were authorized. SFSP was authorized to provide free and reduced price meals to children in residential Summer camps and sites serving areas of poor economic conditions, where at least one-third of the children qualify and are eligible to participate. The Pennsylvania Rural Area Eligibility Pilot will address the concern that some poor rural children may not be reached by the SFSP, Public Law 108-265 established a pilot for the SFSP in rural areas of Pennsylvania for Calendar 2005 and 2006.

Need and Use of the Information: The information collected from the pilot will be used by managers and administrators of the USDA, in particular the Child Nutrition Program of the Food and Nutrition Service and the Pennsylvania Department of Education Food and Nutrition Division, for the purpose of planning, organizing, and delivering SFSP services. The information collected from the pilot will include the number of sponsors offering meals through SFSP; the number of sites offering meals through SFSP; the geographic location of the sites; and services provided to eligible children.

Description of Respondents: Not-for-profit institutions; State, Local, or Tribal Government.

Number of Respondents: 306.

Frequency of Responses: Reporting: Annually.

Total Burden Hours: 77.

Ruth Brown,
Departmental Information Collection Clearance Officer.

[FR Doc. E6-13360 Filed 8-14-06; 8:45 am]

BILLING CODE 3410-30-P